DEPARTMENT OF HOMELAND SECURITY

Science and Technology Directorate; Notice of Intent To Prepare an Environmental Impact Statement

AGENCY: Science and Technology Directorate, DHS.

ACTION: Notice of intent to prepare an Environmental Impact Statement for the National Biosecurity Analysis and Countermeasures Center Facility at Fort Detrick, Maryland.

SUMMARY: The Department of Homeland Security (DHS) announces its intent to prepare an Environmental Impact Statement (EIS) to evaluate the construction and operation by DHS of the proposed new National Biosecurity Analysis and Countermeasures Center (NBACC) facility, at Fort Detrick in Frederick, Maryland. This EIS is being prepared and considered in accordance with requirements of the National Environmental Policy Act (NEPA) of 1969, regulations of the President's Council on Environmental Quality (40 CFR parts 1500-1508), and Army Regulation 200-2, Environmental Analysis of Army Actions (32 CFR 651), 29 March 2002. The U.S. Army, as owner of the site of the proposed NBACC facility, is a Cooperating Agency in the preparation of this EIS.

DATES: Pursuant to the National Environmental Policy Act, a Public Scoping meeting will be held on Tuesday, June 22, 2004, 7 p.m.

ADDRESSES: The meeting location is Frederick Community College, 7932 Opossumtown Pike, Frederick, MD 21702.

Comments on the scope of the EIS for the proposed project should be received no later than July 8, 2004. Additional information on how to submit comments is included in the SUPPLEMENTARY INFORMATION section.

SUPPLEMENTARY INFORMATION: The mission of the DHS, as stated in the Homeland Security Act (Pub. L. 107-296), is to prevent terrorist attacks within the United States, to reduce America's vulnerability to terrorism, and to minimize the damage and assist in recovery efforts from attacks that may occur. DHS has the specific responsibility to identify and develop countermeasures to biological threats in support of this mission. In accordance with specific national policy directives and DHS strategic policy, construction of the NBACC facility is proposed to support the DHS goals by countering bioterrorism threats through the conduct of research and operational programs.

To accomplish this mission, the proposed NBACC facility will provide the research laboratory and office space to meet program requirements for biological threat characterization and bioforensic operations and research.

• Biological Threat Characterization reduces the nation's vulnerabilities to biological threats by conducting research to better understand current biological threats as well as future threats. Additionally, this program will conduct science-based comprehensive risk assessments to anticipate, prevent, respond to and recover from an attack through the execution of an integrated science program at the NBACC facility.

• Bioforensics Operations and Research provides a validated, authoritative assessment of collected materials subject to forensic analysis. This same material may then be linked through identification of the biochemical fingerprint to the source.

The proposed NBACC facility will include laboratories designed and constructed to Biosafety Levels -2, -3, and -4 standards that will enable DHS researchers to safely conduct these research and forensics programs to accomplish this work. “Biosafety Levels” is a system of well-defined facilities, equipment, and procedures established to minimize risk of exposure to potentially hazardous agents for laboratory workers and the outside environment. The research conducted at NBACC will be solely defensive in nature, serving to understand and attribute the threats that may be used against the United States in a biological attack.

The proposed location is on an approximately 7-acre plot within the National Interagency Biodefense Campus on Area A of Fort Detrick, Maryland, near facilities of the U.S. Army Medical Research Institute of Infectious Diseases, the U.S. Department of Agriculture, and the planned National Institutes of Health Integrated Research Facility.

Issues to be analyzed in the EIS will include safety of laboratory operations; public health and safety; handling, collection, treatment, and disposal of research wastes; and analysis of other risks, as well as concerns for pollution prevention and impacts of the proposed action on air quality, biological resources, cultural resources, water resources, land use, and socioeconomic resources. The EIS will address several alternatives, including citing the proposed NBACC facility at another location on the grounds of Fort Detrick; locating the proposed NBACC facility on other existing government-owned property outside of Fort Detrick; siting the proposed NBACC facility on privately-owned property outside Fort Detrick; and a No-Action alternative, under which the proposed NBACC facility would not be built. Additional alternatives may be identified in the Public Scoping process.

Public Participation: The DHS and the U.S. Army invite full public participation to promote open communication and better decision-making. All interested persons and organizations, including minority, low-income, disadvantaged, and Native American groups, are urged to participate in this NEPA environmental analysis process. Assistance will be provided upon request to anyone with special needs to facilitate their participation in the NEPA process.

To ensure that the full range of issues related to this proposed action and the scope of this EIS are addressed, oral and written comments are invited from all interested parties, including appropriate federal, state, and local agencies, and private organizations and citizens.

Public comments are welcome throughout the NEPA process and should be directed to Kevin Anderson, Department of Homeland Security, 7435 New Technology Way, Suite A, Frederick, MD 21703. Additional formal opportunities for public participation after the Public Scoping are tentatively scheduled as follows:

Review and comment on the Draft EIS (including a public meeting), August-September 2004.

Public meeting on the Draft EIS, August 2004.

Notices of Availability for the Draft EIS, Final EIS, and Record of Decision will be provided through direct mail, the Federal Register, and other media. Notifications also will be sent to federal, state, and local agencies and persons and organizations that submit comments or questions throughout the NEPA process. Precise schedules and locations for public meetings will be announced in the local news media. Interested individuals and organizations may request to be included on the mailing list for public distribution of meeting announcements and associated documents.

FOR FURTHER INFORMATION CONTACT: Kevin Anderson, 301-846-2156.

Authority: 42 U.S.C. 4321-4347 (National Environmental Policy Act).

Dated: June 3, 2004.
Maureen I. McCarthy,
Director, Research and Development, Science and Technology Directorate.

[FR Doc. 04-12908 Filed 6-4-04; 8:45 am]

BILLING CODE 4410-10-U